DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on June 28-29, 2010, in room 230 at the Department of Veterans Affairs, 810 Vermont Avenue, NW., Washington, DC. The meeting will be open to the public and it will start at 8 a.m. each day and will adjourn at 5 p.m. on June 28 and at 1:15 p.m. on June 29.

The purpose of the Committee is to provide advice and make recommendations to the Secretary of Veterans Affairs on proposed research studies, research plans and research strategies relating to the health consequences of military service in the Southwest Asia theater of operations during the Gulf War.

The Committee will review VA program activities related to Gulf War Veterans' Illnesses and updates on relevant scientific research published since the last Committee meeting. Additionally, there will be presentations and discussion of background information on the Gulf War and Gulf War Veterans' Illnesses, the effects of various potential exposures on memory and cognition, an update on amyotrophic lateral sclerosis rates in Gulf War Veterans, and new imaging techniques. There will also be discussion of Committee business and activities.

The meeting will include time reserved for public comments. A sign-up sheet for 5-minute comments will be available at the meeting. Individuals who speak are invited to submit a 1-2 page summary of their comments at the time of the meeting for inclusion in the official meeting record. Members of the public may also submit written statements for the Committee's review to Dr. Roberta White, Chair, Department of Environmental Health, Boston University School of Public Health, 715 Albany St., T2E, Boston, MA 02118, or e-mail at rwhite@bu.edu.

Any member of the public seeking additional information should contact Dr. White, Scientific Director, at (617) 638-4620 or Dr. William Goldberg, Designated Federal Officer, at (202) 461-1667.

Dated: May 17, 2010.
By Direction of the Secretary.
Vivian Drake,
Acting Committee Management Officer.

[FR Doc. 2010-12209 Filed 5-20-10; 8:45 am]

BILLING CODE P